DEPARTMENT OF LABOR

Employment and Training Administration

[TA-W-57,409]

Elbeco, Inc., Meyersdale Manufacturing Co., Meyersdale, PA; Amended Certification Regarding Eligibility To Apply for Worker Adjustment Assistance and Alternative Trade Adjustment Assistance

In accordance with section 223 of the Trade Act of 1974 (19 U.S.C. 2273), and section 246 of the Trade Act of 1974, as amended, the Department of Labor issued a Certification of Eligibility to Apply for Worker Adjustment Assistance and Alternative Trade Adjustment Assistance on July 8, 2005, applicable to workers of Elbeco, Inc., Meyersdale Manufacturing Co., Meyersdale, Pennsylvania. The notice will soon be published in the Federal Register.

At the request of the State agency, the Department reviewed the certification for workers of the subject firm. The workers produce woven uniform shirts.

The review shows that all workers of Elbeco, Inc., Meyersdale Manufacturing, Meyersdale, Pennsylvania, were certified eligible to apply for adjustment assistance under petition number TA-W-41,709, which expired on August 23, 2004.

In order to avoid an overlap in worker group coverage, the Department is amending the current certification for workers of Elbeco, Inc., Meyersdale Manufacturing, Meyersdale, Pennsylvania, to change the impact date from June 7, 2004, to August 24, 2004.

The amended notice applicable to TA-W-57,409 is hereby issued as follows:

All workers of Elbeco, Inc., Meyersdale Manufacturing Co., Meyersdale, Pennsylvania, who became totally or partially separated from employment on or after August 24, 2004, through July 8, 2007, are eligible to apply for adjustment assistance under section 223 of the Trade Act of 1974, and are also eligible to apply for alternative trade adjustment assistance under section 246 of the Trade Act of 1974.

Signed in Washington, DC, this 20th day of July 2005.
Elliott S. Kushner,
Certifying Officer, Division of Trade Adjustment Assistance.

[FR Doc. E5-4218 Filed 8-4-05; 8:45 am]

BILLING CODE 4510-30-P